DEPARTMENT OF TRANSPORTATION

Federal Aviation Administration

14 CFR Part 39

[Docket No. FAA-2006-25643; Directorate Identifier 2006-NM-135-AD]

RIN 2120-AA64

Airworthiness Directives; Empresa Brasileira de Aeronautica S.A. (EMBRAER) Model ERJ 170 and ERJ 190 Airplanes

AGENCY: Federal Aviation Administration (FAA), Department of Transportation (DOT).

ACTION: Notice of proposed rulemaking (NPRM).

SUMMARY: The FAA proposes to adopt a new airworthiness directive (AD) for certain EMBRAER Model ERJ 170 and ERJ 190 airplanes. This proposed AD would require repetitive inspections to detect damaged smoke seals in the aft avionics compartment, repair/replacement if any damage is found, and reinforcement if no damage is found. This proposed AD also would require eventual replacement of all smoke seals in the aft avionics compartment with new, improved seals having new part numbers, which would terminate the repetitive inspections. This proposed AD results from a report of damaged smoke seals in the aft avionics compartment of the affected airplanes. We are proposing this AD to prevent smoke from penetrating into the passenger cabin during a fire in the avionics compartment.

DATES: We must receive comments on this proposed AD by September 20, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “FAA-2006-25643; Directorate Identifier 2006-NM-135-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Departamento de Aviaão Civil (DAC), which is the airworthiness authority for Brazil, notified us that an unsafe condition may exist on certain EMBRAER Model ERJ 170 and ERJ 190 airplanes. The DAC advises that damaged smoke seals have been found in the aft avionics compartment of the affected airplanes. The damage was caused by a design problem. This condition, in the event of a fire in the avionics compartment, could result in smoke penetrating into the passenger cabin.

Relevant Service Information

EMBRAER has issued the service bulletins shown in the following table.

EMBRAER Service Bulletins
Airplane | EMBRAER Service Bulletins for inspections | EMBRAER Service Bulletins for replacement
Model ERJ 170 airplanes | 170-21-0017, Revision 01, dated February 15, 2006 | 170-21-0018, Revision 01, dated February 15, 2006.
Model ERJ 190 airplanes | 190-21-0003, Revision 01, dated February 15, 2006 | 190-21-0004, dated December 2, 2005.

The service bulletins for the inspections describe procedures for repetitive inspections for damaged smoke seals in the aft avionics compartment, and corrective actions. If no damage is found, these service bulletins specify reinforcing around the Velcro fasteners by installing silver tape. If damage is found and all damage is within the limits shown in the following table, the corrective action is repairing the damage before further flight as specified in the inspection service bulletins. This repair includes installing silver tape along the torn section of the Velcro fasteners to reinforce a torn area; and installing silver tape along the un-bonded Velcro fastener; as applicable. If any damage is outside the damage limits, these service bulletins state that the seal must be replaced with a new, improved seal, having a new part number, in accordance with the replacement service bulletins. The service bulletins for the replacement refer to the applicable aircraft maintenance manual tasks for specific instructions.

Damage Limits Specified in Service Bulletins 170-21-0017 and 190-21-0003
Damage area | Damage type | Damage limit
Seal | Tear | Tear must not exceed 200 millimeters (mm) in length, regardless of direction; and edges must not be less than 10 mm from the seal extremities.
Velcro Fastener | Un-bonding from the seal edge | Un-bonded section must not exceed 300 mm in length.

Accomplishing the actions specified in the service information is intended to adequately address the unsafe condition. The DAC mandated the service information and issued Brazilian airworthiness directives 2006-05-04 (for Model ERJ170 airplanes) and 2006-05-07 (for Model ERJ190 airplanes), both effective June 14, 2006, to ensure the continued airworthiness of these airplanes in Brazil.

FAA's Determination and Requirements of the Proposed AD

These airplane models are manufactured in Brazil and are type certificated for operation in the United States under the provisions of section 21.29 of the Federal Aviation Regulations (14 CFR 21.29) and the applicable bilateral airworthiness agreement. As described in to this bilateral airworthiness agreement, the DAC has kept the FAA informed of the situation described above. We have examined the DAC's findings, evaluated all pertinent information, and determined that we need to issue an AD for airplanes of this type design that are certificated for operation in the United States.

Therefore, we are proposing this AD, which would require accomplishing the actions specified in the service information described previously, except as discussed under “Difference Between the Proposed AD and the Brazilian Airworthiness Directives.”

Difference Between Proposed AD and the Brazilian Airworthiness Directives

The Brazilian airworthiness directives are applicable to “all EMB-170( ) aircraft in operation,” and to “all EMB-190( ) aircraft in operation.” However, this does not agree with the effectivity of the EMBRAER service bulletins, which state that only certain Model EMB-170 and EMB-190 airplanes are affected. The service bulletins identify the affected airplanes by serial number. This proposed AD would be applicable only to the airplanes identified in the service bulletins. This difference has been coordinated with the DAC.

Clarification of Reinforcement Action

If no damage is found during the detailed inspections specified in this proposed AD, the service bulletins specify reinforcing around the Velcro fasteners by installing silver tape. However, EMBRAER Service Bulletins 170-21-0017 and 190-21-0003 are not specific as to whether this reinforcement must be repeated after each repetitive inspection during which no damage is found. Therefore, this proposed AD specifies that the reinforcement is required only one time, and thereafter as necessary depending on inspection findings.

Clarification of Inspection Terminology

EMBRAER Service Bulletins 170-21-0017 and 190-21-0003 do not specify the inspection type for finding damage to the smoke seals. In this proposed AD we refer to that inspection as a detailed inspection to parallel the inspection type specified in the Brazilian airworthiness directives. We have included the definition for a detailed inspection in a note in this proposed AD.

Costs of Compliance

The following table provides the estimated costs for U.S. operators to comply with this proposed AD.

Estimated Costs
Action | Work hours | Average labor rate per hour ($) | Parts | Cost per airplane | Number of U.S.-registered airplanes | Fleet cost
Inspection, per inspection cycle | 1 | 80 | None | $80, per inspection cycle | 78 | $6,240, per inspection cycle.
Reinforcement | 1 | 80 | Operator supplied | $80, per inspection cycle | 78 | $6,240.
Replacement | 8 | 80 | $244 to $265 | $884 to $905 | 78 | $68,952 to $70,590.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2006-25643; Directorate Identifier 2006-NM-135-AD.

Comments Due Date

(a) The FAA must receive comments on this AD action by September 20, 2006.

Affected ADs

(b) None.

Applicability

(c) This AD applies to the airplanes identified in Table 1 of this AD, certificated in any category.

Table 1.—Airplanes Affected by This AD
EMBRAER model— | As identified in EMBRAER Service Bulletin—
ERJ 170-100 LR, -100 STD, -100 SE, and -100 SU airplanes | 170-21-0017, Revision 01, dated February 15, 2006.
ERJ 190-100 STD, -100 LR, and -100 IGW airplanes | 190-21-0003, Revision 01, dated February 15, 2006.

Unsafe Condition

(d) This AD results from a report of damaged smoke seals in the aft avionics compartment of the affected airplanes. We are issuing this AD to prevent smoke from penetrating into the passenger cabin during a fire in the avionics compartment.

Compliance

(e) You are responsible for having the actions required by this AD performed within the compliance times specified, unless the actions have already been done.

Service Bulletin References

(f) The term “service bulletin,” as used in this AD, means the Accomplishment Instructions of the following service bulletins, as applicable:

(1) For the inspections, applicable corrective actions, and reinforcement specified in paragraph (g) of this AD: EMBRAER Service Bulletins 170-21-0017, Revision 01, dated February 15, 2006 (for Model ERJ 170-100 LR, -100 STD, -100 SE, and -100 SU airplanes); and 190-21-0003, Revision 01, dated February 15, 2006 (for Model ERJ 190-100 STD, -100 LR, and -100 IGW airplanes); and

(2) For the replacement specified in paragraph (h) of this AD: EMBRAER Service Bulletins 170-21-0018, Revision 01, dated February 15, 2006 (for Model ERJ 170-100 LR, -100 STD, -100 SE, and -100 SU airplanes); and 190-21-0004, dated December 2, 2005 (for Model ERJ 190-100 STD, -100 LR, and -100 IGW airplanes).

Inspections and Reinforcement

(g) Within 600 flight hours after the effective date of this AD: Do a detailed inspection for damaged smoke seals in the aft avionics compartment; and, following the inspection, before further flight, reinforce around the Velcro fasteners by installing silver tape if no damage is found, and do all applicable corrective actions if any damage is found. Repeat the inspection thereafter at intervals not to exceed 1,200 flight hours until the replacement required by paragraph (h) of this AD is done. Where the applicable service bulletin specifies reinforcing around the Velcro fasteners by installing silver tape if no damage is found during the detailed inspection, that reinforcement must be done the first time; it is required again only if damage is found during any repeat inspection. Do all actions in accordance with the applicable service bulletin specified in paragraph (f)(1) of this AD. If any damage exceeds the limits specified in the applicable service bulletin: Before further flight, do the replacement in paragraph (h) of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Replacement

(h) Within 6,000 flight hours after the effective date of this AD: Replace the smoke seal in the aft avionics compartment with a new improved seal, having a new part number, in accordance with Accomplishment Instructions of the applicable service bulletin specified in paragraph (f)(2) of this AD. Doing this replacement terminates the repetitive inspection requirements of paragraph (g) of this AD.

Parts Installation

(i) As of the effective date of this AD, no person may install a smoke seal in the aft avionics compartment on any airplane, that has part number 170-96563-509, -511, -513, -515, -517, -519, -521, or -523; 171-04768-501, -503, -505, or -507; 190-15062-501, -503, -505, or -507; or 190-15902-501, -503, -505, or -507.

Actions Accomplished According to Previous Issues of Service Bulletins

(j) Actions done before the effective date of this AD in accordance with the applicable service bulletins identified in Table 2 of this AD are acceptable for compliance with the corresponding requirements of paragraphs (g) and (h) of this AD.

Table 2.—Previous Issues of Service Bulletins
EMBRAER Service Bulletin | Date
170-21-0017 | Dec. 29, 2005.
170-21-0018 | Dec. 2, 2005.
190-21-0003 | Dec. 29, 2005.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) Brazilian airworthiness directives 2006-05-04 (for Model ERJ170 airplanes), and 2006-05-07 (for Model ERJ190 airplanes), both effective June 14, 2006, also address the subject of this AD.

Issued in Renton, Washington, on August 11, 2006.
Kalene C. Yanamura,
Acting Manager, Transport Airplane Directorate, Aircraft Certification Service.

[FR Doc. E6-13714 Filed 8-18-06; 8:45 am]

BILLING CODE 4910-13-P